DEPARTMENT OF COMMERCE

Foreign-Trade Zones Board

[B-34-2019]

Foreign-Trade Zone (FTZ) 29—Louisville, Kentucky; Notification of Proposed Production Activity; LLFlex, LLC (Aluminum and Steel Cable Wraps), Louisville, Kentucky

LLFlex, LLC (LLFlex) submitted a notification of proposed production activity to the FTZ Board for its facility in Louisville, Kentucky. The notification conforming to the requirements of the regulations of the FTZ Board (15 CFR 400.22) was received on May 1, 2019.

LLFlex already has authority to produce aluminum foil liner stock and foil backed paperboard within Subzone 29J. The current request would add finished products and foreign status materials/components to the scope of authority. Pursuant to 15 CFR 400.14(b), additional FTZ authority would be limited to the specific foreign-status materials/components and specific finished products described in the submitted notification (as described below) and subsequently authorized by the FTZ Board.

Production under FTZ procedures could exempt LLFlex from customs duty payments on the foreign-status materials/components used in export production (estimated 20 percent of production). On its domestic sales, for the foreign-status materials/components noted below and in the existing scope of authority, LLFlex would be able to choose the duty rates during customs entry procedures that apply to: Bare cable wrap; polymer/plastic coated cable wrap; bare aluminum cable wrap—width <0.2mm; and, backed aluminum cable wrap (duty rate ranges from duty-free to 5.8%). LLFlex would be able to avoid duty on foreign-status components which become scrap/waste. Customs duties also could possibly be deferred or reduced on foreign-status production equipment.

The materials/components sourced from abroad include: Carbon and alloy flat steel; and, flat rolled aluminum in coils (duty rate ranges from duty-free to 5.3%). The request indicates that components are subject to antidumping/countervailing duty (AD/CVD) orders if imported from certain countries. The FTZ Board's regulations (15 CFR 400.14(e)) require that merchandise subject to AD/CVD orders, or items which would be otherwise subject to suspension of liquidation under AD/CVD procedures if they entered U.S. customs territory, be admitted to the zone in privileged foreign status (19 CFR 146.41). The request also indicates that certain materials/components are subject to special duties under Section 232 of the Trade Expansion Act of 1962 (Section 232), depending on the country of origin. The applicable Section 232 decisions require subject merchandise to be admitted to FTZs in privileged foreign status.

Public comment is invited from interested parties. Submissions shall be addressed to the Board's Executive Secretary and sent to: ftz@trade.gov. The closing period for their receipt is June 24, 2019.

A copy of the notification will be available for public inspection in the “Reading Room” section of the Board's website, which is accessible via www.trade.gov/ftz.

For further information, contact Elizabeth Whiteman at Elizabeth.Whiteman@trade.gov or (202) 482-0473.

Dated: May 8, 2019.
Andrew McGilvray,
Executive Secretary.

[FR Doc. 2019-09906 Filed 5-13-19; 8:45 am]

BILLING CODE 3510-DS-P